DEPARTMENT OF LABOR

Employment and Training Administration

[TA-W-41,260]

Laird Technologies, Asheboro, NC; Notice of Negative Determination Regarding Application for Reconsideration,

By application dated July 26, 2002, a petitioner requested administrative reconsideration of the Department's negative determination regarding eligibility for workers and former workers of the subject firm to apply for Trade Adjustment Assistance (TAA). The denial notice was signed on July 2, 2002 and published in the Federal Register on July 18, 2002 (67 FR 47400).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a misinterpretation of facts or of the law justified reconsideration of the decision.

The TAA petition, filed on behalf of workers at Laird Technologies, Asheboro, North Carolina engaged in the production of Electromagnetic Interface (EMI) and Radio Frequency Interface (RFI) Shielding, was denied because the “contributed importantly” group eligibility requirement of section 222(3) of the Trade Act of 1974, as amended, was not met. The “contributed importantly” test is generally demonstrated through a survey of the workers' firm's customers. The Department conducted a survey of the subject company's major customers regarding their purchases of EMI/RFI shielding in 2000 and 2001. The customers reported either no imports or declining imports during the relevant period. The subject firm did not import EMI/RFI shielding during the relevant period. Laird Technologies is transferring production from Asheboro, North Carolina to other affiliated domestic facilities.

The petitioner appears to be indicating the company is building a production plant in China and sometime in the future the Chinese plant will be producing products like or directly competitive with what the subject plant produced. The petitioner believes the shift in production to China meets the eligibility requirements of the Trade Act of 1974, as amended.

A shift in production to a foreign source under TAA is not a relevant factor in meeting the eligibility requirement under section 222(3) of the Trade Act of 1974, as amended. Any potential imports of Electromagnetic Interface (EMI) and Radio Frequency Interface (RFI) Shielding into the United States from the Chinese plant must enter the United States during the relevant period of the investigation to meet the eligibility requirement of section 222(3) of the Trade Act of 1974, as amended.

Conclusion

After review of the application and investigative findings, I conclude that there has been no error or misinterpretation of the law or of the facts which would justify reconsideration of the Department of Labor's prior decisions. Accordingly, the application is denied.

Signed at Washington, DC, this 12th day of August, 2002.
Edward A. Tomchick,
Director, Division of Trade Adjustment Assistance.

[FR Doc. 02-21096 Filed 8-19-02; 8:45 am]

BILLING CODE 4510-30-P